DEPARTMENT OF HOMELAND SECURITY

Federal Emergency Management Agency

[Docket ID FEMA-2007-0008]

National Advisory Council; Meeting

AGENCY: Federal Emergency Management Agency, Department of Homeland Security.

ACTION: Committee Management; Notice of open Federal Advisory Committee meeting.

SUMMARY: The Federal Emergency Management Agency's National Advisory Council (NAC) will meet November 2 and 3, 2021. The meeting will be open to the public through virtual means.

DATES: The NAC will meet 8:30 a.m. and 5 p.m. Eastern Time (ET) on Tuesday, November 2, 2021 and Wednesday, November 3, 2021. Please note that the meeting may close early if the NAC has completed its business.

ADDRESSES: Anyone who wishes to participate must register with FEMA in advance by providing their name, official title, organization, telephone number, and email address to the person listed in the FOR FURTHER INFORMATION CONTACT caption below by 5 p.m. ET Friday, October 29, 2021. Members of the public are urged to provide written comments on the issues to be considered by the NAC. The topic areas are indicated in the SUPPLEMENTARY INFORMATION caption below. Any written comments must be submitted and received by 5 p.m. ET on October 29, 2021, identified by Docket ID FEMA-2007-0008, and submitted by the following method: Federal eRulemaking Portal at http://www.regulations.gov. Follow the instructions for submitting comments.

Instructions for Submitting Comments: All submissions must include the words “Federal Emergency Management Agency” and the docket number (Docket ID FEMA-2007-0008) for this action. Comments received, including any personal information provided, will be posted without alteration at http://www.regulations.gov. For access to the docket or to read comments received by the NAC, go to http://www.regulations.gov, and search for Docket ID FEMA-2007-0008.

Public comment periods will be held on Tuesday, November 2, 2021, from 9:45 a.m. to 10:00 a.m.; and Wednesday, November 3, 2021 from 8:45 a.m. to 9:00 a.m. ET. All speakers must register in advance of the meeting to make remarks during the public comment period and must limit their comments to three minutes. Comments should be addressed to the NAC. Any comments not related to the agenda topics will not be considered. To register to make remarks during the public comment period, contact the person listed in the FOR FURTHER INFORMATION CONTACT caption below by 5 p.m. ET, Friday, October 29, 2021. Please note that the public comment period may end before the time indicated, following the last call for comments.

Reasonable accommodations are available for people with disabilities. To request a reasonable accommodation, contact the person listed in the FOR FURTHER INFORMATION CONTACT caption below as soon as possible. Last minute requests will be accepted but may not be possible to fulfill.

FOR FURTHER INFORMATION CONTACT: Rob Long, Designated Federal Officer, Office of the National Advisory Council, Federal Emergency Management Agency, 500 C Street SW, Washington, DC 20472-3184, 202-709-0783, and email FEMA-NAC@fema.dhs.gov. The NAC website is http://www.fema.gov/national-advisory-council.

SUPPLEMENTARY INFORMATION: Notice of this meeting is given under the Federal Advisory Committee Act, 5 U.S.C. Appendix.

The NAC advises the FEMA Administrator on all aspects of emergency management. The NAC incorporates input from State, local, Tribal, and territorial governments, and the private sector in the development and revision of FEMA plans and strategies. The NAC includes a cross-section of officials, emergency managers, and emergency response providers from State, local, Tribal, and territorial governments, the private sector, and nongovernmental organizations.

Agenda: On Tuesday, November 2, 2021, NAC subcommittees will present to the full NAC their recommendations on the topics of equity, potential improvements to the public and individual assistance programs, workforce support, risk-informed decision making, and ideas of restructuring FEMA. On Wednesday, November 3, 2021, the NAC will discuss and consider with selected experts and leadership how to approach considering issues of equity, climate adaptation and readiness in 2022.

The full agenda and any related documents for this meeting will be available by Friday, October 29, 2021, by contacting the person listed in the FOR FURTHER INFORMATION CONTACT caption above.

Deanne Criswell,
Administrator, Federal Emergency Management Agency.

[FR Doc. 2021-22058 Filed 10-7-21; 8:45 am]

BILLING CODE 9111-48-P